DEPARTMENT OF COMMERCE

National Oceanic and Atmospheric Administration

RIN 0648-XA979

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold meetings of its 109th Scientific and Statistical Committee (SSC) and its 153rd Council meeting to take actions on fishery management issues in the Western Pacific Region. The Council will also convene community meetings on the islands of Tinian and Rota, in the Commonwealth of the Northern Mariana Islands (CNMI), and at Merizo, Guam, as well as hold meetings of the Guam Regional Ecosystem Advisory Committee (REAC), the CNMI REAC, the Mariana Archipelago and Pacific Pelagic Fisheries Ecosystem Plans (FEPs) Advisory Panel (AP) and the Council's Executive and Budget Standing Committee.

DATES: The meetings will be held between February 21, 2012 and March 9, 2012. For specific times and agendas, see SUPPLEMENTARY INFORMATION.

ADDRESSES: The meetings will be held in Honolulu, HI; Tinian, CNMI; Merizo, Guam; Rota, CNMI; Tumon Bay, Guam; and Saipan Beach, Garapan, CNMI. See SUPPLEMENTARY INFORMATION for specific meeting locations.

FOR FURTHER INFORMATION CONTACT: Kitty M. Simonds, Executive Director; telephone: (808) 522-8220.

SUPPLEMENTARY INFORMATION: The 109th SSC meeting will be held on February 21-23, 2012, between 8:30 a.m. and 5 p.m.; the Tinian and Merizo Community Meetings will be held on February 28, 2012, between 5 p.m. and 8 p.m.; the Rota Community Meeting on February 29, 2012, between 5 p.m. and 8 p.m.; the Guam REAC on February 29, 2012, between 9 a.m. and 4 p.m.; the CNMI REAC on March 2, 2012, between 9 a.m. and 4 p.m.; the Mariana Archipelago and Pacific Pelagic FEPs AP on March 3, 2012, between 8:30 a.m. and 5 p.m.; the Council's Executive and Budget Standing Committee on March 4, 2012, between 2 p.m. and 4 p.m. The 153rd Council Meeting will be held between 8:30 a.m. and 5 p.m. on March 5, 2012, and between 9 a.m. and 5 p.m. on March 6, 2012, in Saipan, and between 8:30 a.m. and 5 p.m. on March 8, 2012, and between 9 a.m. and 5 p.m. on March 9, 2012, in Guam. In addition, the Council will host Fishers Forums on Saipan on March 5, 2012 between 6 p.m. and 9 p.m. and on Guam on March 8, 2012, between 6 p.m. and 9 p.m.

The 109th SSC will be held at the Council's Office in Honolulu; the Tinian Community Meeting will be held at The Fleming Hotel, Tinian; the Merizo Community Meeting will be held at the Merizo Community Center; the Rota Community Meeting will be held at the Mayor's Office at the Antonio C. Atalig Memorial Building; the Guam REAC will be held at the Guam Hilton Hotel, Tumon Bay, Guam; the CNMI REAC, the Mariana Archipelago and Pacific Pelagic FEPs AP, the Council's Executive and Budget Standing Committee, the 153rd Council Meeting on March 5 and 6 and Fishers Forum on March 5 will be held at the Fiesta Hotel, Garapan, Saipan; the Council Meeting on March 8 and 9 and the Fishers Forum on March 8 will be held at the Guam Hilton Hotel.

Meeting Locations:

• Council office, 1164 Bishop Street, Suite 1400, Honolulu, HI 96813; telephone: (808) 522-8220.

• Fleming Hotel, Tinian, CNMI 96952; telephone: (670) 433-3232.

• Merizo Community Center, Merizo, Guam 96915; telephone: (671) 828-2941.

• Office of the Mayor, Antonio C. Atalig Memorial Building, Tatachog Road, Rota, CNMI 96951; telephone: (670) 532-9451.

• Guam Hilton Hotel, 202 Hilton Road, Tumon Bay, Guam 96913; telephone: (671) 646-1835.

• Fiesta Hotel, Saipan Beach, Garapan, CNMI 96950; telephone: (670) 234-6412.

In addition to the agenda items listed here, the SSC and Council will hear recommendations from Council advisory groups. Public comment periods will be provided throughout the agendas. The order in which agenda items are addressed may change. The meetings will run as late as necessary to complete scheduled business.

Schedule and Agenda for 109th SSC Meeting

8:30 a.m.-5 p.m., Tuesday, February 21, 2012

1. Introductions

2. Approval of Draft Agenda and Assignment of Rapporteurs

3. Status of the 108th SSC Meeting Recommendations

4. Report from the Pacific Islands Fisheries Science Center Director

5. Insular Fisheries

A. Action Item

1. Draft Fishing Regulations for the Rose Atoll, Marianas Trench, and Pacific Remote Islands Marine National Monuments

2. SSC Working Group on Customary Exchange Report

B. Update of Territory Bottomfish Stock Assessments

C. Essential Fish Habitat (EFH) and Habitat Areas of Particular Concern (HAPC) for Territory Management Unit Species (MUS)

D. Western Pacific Stock Assessment Review (WPSAR) of EFH/HAPC for Territory MUS

E. Discussion on Hawaii Cetacean Genetics

F. Public Comment

G. SSC Discussion and Recommendations

6. Pelagic Fisheries

A. Action Items

1. Amendment Options for American Samoa Shallow-Set Swordfish Fishery

B. Economic Impact for Hawaii-Based Longline Fisheries in Establishing Size Categories for Striped and Blue Marlin

C. Longline Sea Turtle Hard Caps

D. Stock Status of Western and Central Pacific Ocean Bigeye Tuna

E. American Samoa and Hawaii Longline Quarterly Reports

F. International Fisheries Meetings

1. Eighth Meeting of the Western and Central Pacific Fisheries Commission

G. Public Comment

H. SSC Discussion and Recommendations

8:30 a.m.-5 p.m., Wednesday, February 22, 2012

7. Protected Species

A. Marine Mammal Assessments

1. Hawaiian Islands Cetacean and Ecosystem Assessment Survey (HICEAS) II Analyses

2. Draft Revisions to the Guidelines for Preparing Marine Mammal Stock Assessment Reports (SARs)

B. Update on Endangered Species Act (ESA) and Marine Mammal Protection Act (MMPA) Actions

C. New Biological Opinion for Shallow-Set Longline Fishery

D. Sea Turtle Post Release Mortality Workshop

E. Migratory Bird Treaty Act Permit for the Hawaii-Based Shallow-Set Longline Fishery Draft Environmental Assessment

F. Public Comment

G. SSC Discussion and Recommendations

8. Program Planning

A. Review of the Data Collection Programs in the Western Pacific

B. Fishery Data Collection Improvement Workshop

C. Hawaii Non-Commercial Data Workshop

D. Methodology for Reef Fish Visual Survey Length-Based Models

E. Improving Specification of Acceptable Biological Catches (ABC): Report on Annual Catch Limit (ACL) Data Workshop

F. Cooperative Research Priorities

G. Public Comment

H. SSC Discussion and Recommendations

8:30 a.m.-5 p.m., Thursday, February 23, 2012

9. Other Business

A. 110th SSC Meeting

10. Summary of SSC Recommendations to the Council

Schedule and Agenda for Tinian Community Meeting

5 p.m-8 p.m., Tuesday, February 28, 2012

1. Introduction

2. Community Based Monitoring

3. Community Fisheries Development

4. Fishery Issues

5. Other Issues

Schedule and Agenda for Merizo Community Meeting

5 p.m.-8 p.m., Tuesday, February 28, 2012

1. Introduction

2. Community Based Monitoring

3. Community Fisheries Development

4. Fishery Issues

5. Other Issues

Schedule and Agenda for Rota Community Meeting

5 p.m.-8 p.m., Wednesday February 29, 2012

1. Introduction

2. Community Based Monitoring

3. Community Fisheries Development

4. Fishery Issues

5. Other Issues

Schedule and Agenda for Guam REAC Meeting:

9 a.m.-4 p.m., Wednesday, February 29, 2012

1. Welcome and Introductions

2. Status of 2011 REAC Recommendations

3. Community Marine Management Forum

A. Military Activities

i. Military Closures Impacting Southern Fishing Grounds

ii. Report on Recommendations to US Department of Defense on Military Activities

iii. Improving Fishery Data Collection from Military Areas

B. Update on the Marianas Trench Marine National Monument

i. Proposed Monument Fishing Regulations

C. Compact Impact Issues

D. Discussion on Options to Mitigate Impacts to Fishing Community

4. Information Needs to Manage Fisheries through Annual Catch Limits

A. Report on Bio-Sampling Program

B. Update on NOAA Habitat Work in Guam

C. Summary Report of Data Improvement Workshop Findings

D. Discussion and Recommendations

5. Communities and Traditional Fishing Rights

A. First Stewards Climate Change Symposium

B. Guam Village Management of a Local Beach

C. Discussion and Recommendations

6. Upcoming Meetings/Workshops

A. Synopsis of Upcoming 153rd Council Meeting Actions

B. Teachers Workshop

C. Western and Central Pacific Fisheries Commission

7. Other Business

8. Public Comment

9. Discussion and Recommendations

Schedule and Agenda for CNMI REAC Meeting

9 a.m.-4 p.m., Friday, March 2, 2012

1. Welcome and Introductions

2. Status of 2011 REAC Recommendations

3. Community Marine Management Forum

A. Military Activities

i. Military Closures Impacting CNMI Fishing Grounds

ii. Report on Military Activities to Engage the Local Agencies and Community

B. Update on the Marianas Trench Marine National Monument

i. Report on Monument Advisory Committee

ii. Proposed Monument Fishing Regulations

C. Discussion on Options to Mitigate Impacts to Fishing Community

4. Information Needs to Manage Fisheries through Annual Catch Limits

A. Report on Bio-Sampling Program

B. Summary Report of Data Improvement Workshop Findings

C. CNMI Data Program Review Initiative

D. Data Collection—Mandating Participation

E. Discussion

5. Communities and Traditional Fishing Practices

A. First Stewards Climate Change Symposium

B. Characterizing Mariana Spearfishing Community

C. Offshore Aquaculture

i. Pacific Island Aquaculture Consortium

ii. CNMI Aquaculture Group Initiative

D. Discussion and Recommendations

6. Upcoming Meetings/Workshops

A. Synopsis of Upcoming 153rd Council Meeting Actions

B. Teachers Workshop

C. Western and Central Pacific Fisheries Commission

7. Other Business

8. Public Comment

9. Discussion and Recommendations

Schedule and Agenda for Mariana Archipelago and Pacific Pelagic FEPs AP Meeting

8:30 a.m.-5 p.m., Saturday, March 3, 2012

1. Welcome and Introductions

2. Status of 2011 Meeting Recommendations

3. Advisory Panel Duties

A. Communications and the Role of the Advisory Panel

B. Developing a Calendar of Events and List-serve

4. Upcoming Council Actions

A. Annual Catch Limits

B. Federal Regulations for the Marianas Trench Marine National Monument

C. Cooperative Research Priorities

5. Marianas Fisheries Status

A. Review of the Current Status of the Mariana Fisheries

B. Update of EFH/HAPC for Territorial MUS

C. Stock Assessment for Territorial Bottomfish MUS

6. Reports on Local Projects

A. Marianas Spearfishing Assessment

B. Marianas Bottomfish Tagging Project

C. Marianas Small-Boat Socio-Economic Survey

7. Recreational Fisheries and NMFS Regional Action Plan

8. Community Fishery Issues

A. Marianas Trench Marine National Monument Scoping

B. Military Issues

C. Update on Guam Fisheries Act

D. CNMI Fisheries Regulation Review and Improvements

E. CNMI Aquaculture

F. Fisheries Development: Community Fish Aggregation Device Projects in Hawaii

G. Other Issues Listed by AP

9. Other Business

10. Public Comment

11. Discussion and Recommendations

Schedule and Agenda for 153rd Council Meeting:

2 p.m.-4 p.m., Sunday, March 4, 2012

Executive and Budget Standing Committee

8:30 a.m.-5 p.m., Monday March 5, 2012

1. Introductions

2. Approval of the 153rd Agenda

3. Approval of the 152nd Meeting Minutes

4. Executive Director's Report

5. Agency Reports

A. National Marine Fisheries Service (NMFS)

1. Pacific Islands Regional Office

2. Pacific Islands Fisheries Science Center

B. NOAA Regional Counsel

C. U.S. Fish and Wildlife Service

D. Enforcement

1. U.S. Coast Guard

2. NMFS Office for Law Enforcement

3. NOAA General Counsel for Enforcement and Litigation

E. Public Comment

F. Council Discussion and Action

6. Mariana Archipelago—Part 1: CNMI

A. Arongo Flaeey

B. Legislative Report

C. Enforcement Issues

D. Report on Marianas Trench Marine National Monument Scoping

E. Report on Mariana Projects

1. Traditional Fishing Survey

2. Marianas Spearfishing Assessment

3. Small Boat Economic Assessment

F. Community Activities and Issues

1. Marianas Military Range Complex at Farallon de Medinilla

2. Potential Aquaculture Development Plans

3. Marianas Community Meetings

G. Education and Outreach Initiatives

1. Report of the Lunar Calendar Festival

2. Report of the Marianas Teachers Workshops

H. Advisory Group Recommendations

1. AP Recommendations

2. REAC Recommendations

I. SSC Recommendations

J. Public Comments

K. Council Discussion and Action

7. Program Planning and Research

A. Recommendations on Fishing Regulations for the Rose Atoll, Marianas Trench, and Pacific Remote Islands (PRI) Marine National Monuments (ACTION ITEM)

B. Research Priorities

1. Cooperative Research Priorities

2. NMFS Pacific Insular Research Plan

C. Data Improvement

1. Report on Program Review of Creel Survey Systems on Guam, CNMI and American Samoa

2. Report of the Fishery Data Collection Improvement Workshop

3. Improving Specifications of ABCs: Report of the ACL Data Workshop

D. Reef Fish Stock Assessment Methodology

E. Archipelagic FEP MUS Reviews

1. Update of Territory Bottomfish Stock Assessments

2. Revision of EFH/HAPC for Territory MUS

3. WPSAR Review of EFH/HAPC for Territory MUS

6 p.m.-9 p.m., Monday, March 5, 2012

Fishers Forum: Fisheries Development and Monitoring

9 a.m.-5 p.m., Tuesday March 6, 2012

Program Planning and Research Continued

F. National Initiatives

1. Update on Recreational Fishing

2. Update on Coastal and Marine Spatial Planning Regional Initiatives

3. First Stewards Climate Change Symposium Plans

G. Hawaii, Regional, National & International Education and Outreach

H. Advisory Group Recommendations

1. AP Recommendations

2. REAC Recommendations

I. SSC Recommendations

J. Public Hearing

K. Council Discussion and Action

8. American Samoa Archipelago

A. Motu Lipoti

B. Fono Report

C. Enforcement Issues

D. Community Activities and Issues

1. Update on Community Fisheries Development

2. Update on Fagatele Bay National Marine Sanctuary Management Plan Review

E. Education and Outreach Initiatives

F. SSC Recommendations

G. Public Comments

H. Council Discussion and Action

9. Public Comment on Non-Agenda Items

8:30 a.m.-5 p.m., Thursday, March 8, 2012

10. Marianas Archipelago—Part 2: Guam

A. Isla Informe

B. Legislative Report

C. Enforcement Issues

D. Draft Recommendations for Fishing Regulations for the Marianas Trench Marine National Monument (ACTION ITEM)

E. Community Activities and Issues

1. Marianas Military Range Complex

2. Guam Fisheries Act

3. Report of the Marianas Community Meetings

4. Report of the Marianas Spearfishing Assessment

F. Education and Outreach Initiatives

1. Report of the Lunar Calendar Festival

2. Report of the Marianas Teachers Workshops

3. First Stewards Climate Change Symposium Plans

G. Advisory Group Recommendations

1. AP Recommendations

2. REAC Recommendations

H. SSC Recommendations

I. Public Hearing

J. Council Discussion and Action

11. Hawaii Archipelago

A. Moku Pepa

B. Legislative Report

C. Enforcement

1. Report on Shark Finning

2. Enforcement of Bottomfish Restricted Fishing Areas (BRFAs)

D. Bottomfish

1. Update on Bottomfish Annual Catch Target

2. Report on BRFA Review

E. Report of the Hawaii Non-Commercial Data Workshop

F. Community Projects, Activities and Issues

1. Report on Hawaii Regulatory Review

2. Maunalei Ahupuaàa Restoration Project

3. Report on Community Fish Aggregating Devices

4. Supporting the Aha Moku System

5. Report on Humpback Whale National Marine Sanctuary Management Plan Review

G. SSC Recommendations

H. Public Comments

I. Council Discussion and Action

12. Public Comment on Non-Agenda Items

6 p.m.-9 p.m., Thursday, March 8, 2012

Fishers Forum: Fisheries Development and Monitoring

9 a.m.-5 p.m., Friday, March 9, 2012

13. Pelagic and International Fisheries

A. Action Items

1. Recommendations on Options for American Samoa Shallow-Set Longline Fishery (ACTION ITEM)

2. Recommendations on Territory Bigeye Tuna Catch Limits (ACTION ITEM)

B. Economic Impact for Hawaii-Based Longline Fisheries in Establishing Size Categories for Striped and Blue Marlin

C. Longline Sea Turtle Hard Caps

D. American Samoa and Hawaii Longline Quarterly Reports

E. International Fisheries Meetings

1. Eighth Meeting of the Western and Central Pacific Fisheries Commission

2. Te Vaka Moana

F. Advisory Group Recommendations

1. AP Recommendations

2. REAC Recommendations

G. SSC Recommendations

H. Public Hearing

I. Council Discussion and Action

14. Protected Species

A. New Biological Opinion for Shallow-Set Longline Fishery

B. Update on ESA and MMPA actions

C. Hawaiian Islands Cetacean and Ecosystem Assessment Survey (HICEAS) II Analyses

D. Sea Turtle Post Release Mortality Workshop

E. Migratory Bird Treaty Act Permit for the Hawaii-Based Shallow-Set Longline Fishery Draft Environmental Assessment

F. Advisory Group Recommendations

1. AP Recommendations

2. REAC Recommendations

G. SSC Recommendations

H. Public Comment

I. Council Discussion and Action

15. Administrative Matters

A. Financial Reports

B. Administrative Reports

C. Standard Operating Practices and Procedures (SOPP) Review and Changes

D. Council Family Changes

E. Meetings and Workshops

F. Program Review

G. Other Business

H. Standing Committee Recommendations

I. Public Comment

J. Council Discussion and Action

16. Other Business

Non-Emergency issues not contained in this agenda may come before the Council for discussion and formal Council action during its 153rd meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 1, 2012.
Tracey L. Thompson,
Acting Director, Office of Sustainable Fisheries, National Marine Fisheries Service.

[FR Doc. 2012-2609 Filed 2-3-12; 8:45 am]

BILLING CODE 3510-22-P